DEPARTMENT OF THE INTERIOR

National Park Service

[NPS-WASO-NAGPRA-NPS0038740; PPWOCRADN0-PCU00RP14.R50000]

Notice of Intended Repatriation: California Department of Transportation, Bishop, CA

AGENCY: National Park Service, Interior.

ACTION: Notice.

SUMMARY: In accordance with the Native American Graves Protection and Repatriation Act (NAGPRA), California Department of Transportation (Caltrans) intends to repatriate certain cultural items that meet the definition of unassociated funerary objects or objects of cultural patrimony and that have a cultural affiliation with the Indian Tribes or Native Hawaiian organizations in this notice.

DATES: Repatriation of the cultural items in this notice may occur on or after October 21, 2024.

ADDRESSES: Jennifer Blake, Caltrans, 500 South Main Street, Bishop, CA 93514, telephone (760) 937-3894, email jennifer.blake@dot.ca.gov.

SUPPLEMENTARY INFORMATION: This notice is published as part of the National Park Service's administrative responsibilities under NAGPRA. The determinations in this notice are the sole responsibility of Caltrans and additional information on the determinations in this notice, including the results of consultation, can be found in the summary or related records. The National Park Service is not responsible for the determinations in this notice.

Abstract of Information Available

A total of 1,864 cultural items have been requested for repatriation. The 735 unassociated funerary objects are debitage, bifaces, flake tools, faunal bone fragments, groundstone fragments, ceramic sherds, beads, and modern/historic items. The 1,129 objects of cultural patrimony are debitage, modified bone, projectile points, bifaces, flake tools, faunal bone, cores, groundstone fragments, ceramic sherds, paleobotanical samples, and modern/historic items. These cultural items are housed at three repositories under the following accession numbers: at the University of California, Davis, Acc 406-19 from site CA-INY-371/H; at California State University, Bakersfield, Acc 5953-1 from site CA-INY-5953H, Acc 5958 from site CA-INY-5958/H, Acc 5964 from site CA-INY-5964, Acc 5966 from site CA-INY-5966, Acc 5981 from site CA-INY-5981, Acc 5984 from site CA-INY-5984, and Acc 5990 from site CA-INY-5990/H; and at the University of California, Riverside, Acc 308 from site CA-INY-5961/H, Acc 309 from site CA-INY-5962/H, Acc 311 from site CA-INY-5969/5971/H, Acc 312 from site CA-INY-5990/H, Acc 265 from site CA-INY-7716, Acc 281 from site CA-INY-7746, and Acc 313 from site CA-INY-7746. The collections are from sites located in the Owens Valley of the Eastern Sierra region of California, near Owens Lake. The collections were recovered from Caltrans right of way between 1993-2011 during a surface or subsurface archaeological investigation in compliance with state and federal environmental laws in support of Caltrans' Olancha-Cartago Four Lane Project. Objects in these collections are culturally affiliated with the Paiute and Western Shoshone. Modern-day tribes with ancestral ties to this area include the Lone Pine Paiute-Shoshone Reservation, the Big Pine Paiute Tribe of the Owens Valley, the Bishop Paiute Tribe, the Fort Independence Indian Community of Paiutes, and the Death Valley Timbisha-Shoshone Tribe. To the best of Caltrans' knowledge, the cultural items in this archaeological collection have not been treated with hazardous substances.

Determinations

Caltrans has determined that:

• The 735 unassociated funerary objects described in this notice are reasonably believed to have been placed intentionally with or near human remains, and are connected, either at the time of death or later as part of the death rite or ceremony of a Native American culture according to the Native American traditional knowledge of a lineal descendant, Indian Tribe, or Native Hawaiian organization. The unassociated funerary objects have been identified by a preponderance of the evidence as related to human remains, specific individuals, or families, or removed from a specific burial site or burial area of an individual or individuals with cultural affiliation to an Indian Tribe or Native Hawaiian organization.

• The 1,129 objects of cultural patrimony described in this notice have ongoing historical, traditional, or cultural importance central to the Native American group, including any constituent sub-group (such as a band, clan, lineage, ceremonial society, or other subdivision), according to the Native American traditional knowledge of an Indian Tribe or Native Hawaiian organization.

• There is a reasonable connection between the cultural items described in this notice and the Lone Pine Paiute-Shoshone Tribe.

Requests for Repatriation

Additional, written requests for repatriation of the cultural items in this notice must be sent to the authorized representative identified in this notice under ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural items in this notice to a requestor may occur on or after October 21, 2024. If competing requests for repatriation are received, Caltrans must determine the most appropriate requestor prior to repatriation. Requests for joint repatriation of the cultural items are considered a single request and not competing requests. Caltrans is responsible for sending a copy of this notice to the Indian Tribes and Native Hawaiian organizations identified in this notice and to any other consulting parties.

Authority: Native American Graves Protection and Repatriation Act, 25 U.S.C. 3004 and the implementing regulations, 43 CFR 10.9.

Dated: September 12, 2024.
Melanie O'Brien,
Manager, National NAGPRA Program.

[FR Doc. 2024-21543 Filed 9-19-24; 8:45 am]

BILLING CODE 4312-52-P